DEPARTMENT OF ENERGY

Federal Energy Regulatory Commission

Combined Notice of Filings #1

Take notice that the Commission received the following exempt wholesale generator filings:

Docket Numbers: EG18-100-000.

Applicants: Foard City Wind, LLC.

Description: Notice of Self-Certification of Exempt Wholesale Generator Status of Foard City Wind, LLC.

Filed Date: 6/14/18.

Accession Number: 20180614-5027.

Comments Due: 5 p.m. ET 7/5/18.

Take notice that the Commission received the following electric rate filings:

Docket Numbers: ER10-2924-013.

Applicants: Kleen Energy Systems, LLC.

Description: Notice of Non-Material Change in Status of Kleen Energy Systems, LLC.

Filed Date: 6/13/18.

Accession Number: 20180613-5125.

Comments Due: 5 p.m. ET 7/5/18.

Docket Numbers: ER16-1720-006.

Applicants: Invenergy Energy Management LLC.

Description: Notice of Change in Facts Under Market-Based Rate Authority of Invenergy Energy Management LLC.

Filed Date: 6/13/18.

Accession Number: 20180613-5124.

Comments Due: 5 p.m. ET 7/5/18.

Docket Numbers: ER18-1778-000.

Applicants: CFE International LLC.

Description: Baseline eTariff Filing: Market Based Rates to be effective 7/1/2018.

Filed Date: 6/13/18.

Accession Number: 20180613-5103.

Comments Due: 5 p.m. ET 7/5/18.

Docket Numbers: ER18-1779-000.

Applicants: Midcontinent Independent System Operator, Inc.

Description: § 205(d) Rate Filing: 2018-06-13_SA 2155 Ameren Illinois-Bishop Hill 2nd Rev GIA (G545) to be effective 5/14/2018.

Filed Date: 6/13/18.

Accession Number: 20180613-5121.

Comments Due: 5 p.m. ET 7/5/18.

Docket Numbers: ER18-1780-000.

Applicants: Southwest Power Pool, Inc.

Description: § 205(d) Rate Filing: 1977R11 Nemaha-Marshall Electric Cooperative NITSA NOA to be effective 9/1/2018.

Filed Date: 6/14/18.

Accession Number: 20180614-5034.

Comments Due: 5 p.m. ET 7/5/18.

Docket Numbers: ER18-1781-000.

Applicants: Southwest Power Pool, Inc.

Description: § 205(d) Rate Filing: 2041R7 Kansas City Board of Public Utilities PTP Agreement to be effective 9/1/2018.

Filed Date: 6/14/18.

Accession Number: 20180614-5038.

Comments Due: 5 p.m. ET 7/5/18.

Docket Numbers: ER18-1782-000.

Applicants: Duke Energy Carolinas, LLC.

Description: § 205(d) Rate Filing: Amendment to NCEMC NITSA SA No. 210 (2018) to be effective 7/1/2018.

Filed Date: 6/14/18.

Accession Number: 20180614-5042.

Comments Due: 5 p.m. ET 7/5/18.

Docket Numbers: ER18-1783-000.

Applicants: PJM Interconnection, L.L.C.

Description: Tariff Cancellation: Notice of Cancellation of ISA SA No. 4135; Queue No. X1-078 to be effective 6/18/2018.

Filed Date: 6/14/18.

Accession Number: 20180614-5044.

Comments Due: 5 p.m. ET 7/5/18.

Docket Numbers: ER18-1784-000.

Applicants: PacifiCorp.

Description: Compliance filing: OATT Ancillary Erratum to Compliance Filing to be effective 7/1/2018.

Filed Date: 6/14/18.

Accession Number: 20180614-5049.

Comments Due: 5 p.m. ET 7/5/18.

Docket Numbers: ER18-1785-000.

Applicants: Southern California Edison Company.

Description: Tariff Cancellation: Notice of Cancellation LA Hecate Energy Johanna 12 kV-P1 & P2 Projects to be effective 6/5/2018.

Filed Date: 6/14/18.

Accession Number: 20180614-5052.

Comments Due: 5 p.m. ET 7/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2018.
Kimberly D. Bose,
Secretary.

[FR Doc. 2018-13196 Filed 6-19-18; 8:45 am]

BILLING CODE 6717-01-P